DEPARTMENT OF COMMERCE

International Trade Administration

[A-570-970]

Multilayered Wood Flooring From the People's Republic of China: Correction to the Final Results of Antidumping Duty Administrative Review; 2014-2015

AGENCY: Enforcement and Compliance, International Trade Administration, Department of Commerce.

DATES: Effective September 14, 2017.

FOR FURTHER INFORMATION CONTACT: Aleksandras Nakutis, AD/CVD Operations, Office IV, Enforcement and Compliance, International Trade Administration, Department of Commerce, 1401 Street and Constitution Avenue NW., Washington, DC 20230; telephone: (202) 482-3147.

SUPPLEMENTARY INFORMATION: On June 5, 2017, the Department of Commerce (the Department) published the final results of the 2014-2015 administrative review of the antidumping duty order on multilayered wood flooring from the People's Republic of China (PRC).¹ The period of review (POR) is December 1, 2014, through November 30, 2015. The Department is issuing this notice to correct an inadvertent error in the Final Results. Specifically, the Department granted a separate rate to Guandong Yihua Timber Industry Co., Ltd. (Yihua Timber); however, the Department failed to take into account the completion of a changed circumstances review on the antidumping duty order on multilayered wood flooring from the PRC.² In the CCR, the Department determined that Yihua Lifestyle Technology Co., Ltd. (Yihua Tech) is the successor-in-interest to Yihua Timber.³ As such, effective March 22, 2017, Yihua Tech is entitled to Yihua Timber's antidumping cash deposit rate with respect to entries of subject merchandise. The Department intends to send updated cash deposit instructions to U.S. Customs and Border Protection.

¹ See Multilayered Wood Flooring from the People's Republic of China: Final Results of Antidumping Duty Administrative Review, Final Determination of No Shipments, and Final Partial Rescission of Antidumping Duty Administrative Review; 2014-2015, 82 FR 25766 (June 5, 2017) (Final Results).

² See Multilayered Wood Flooring from the People's Republic of China: Final Results of Changed Circumstances Reviews, 82 FR 14691 (March 22, 2017) (CCR).

³ Id.

This correction to the final results of this administrative review is issued and published in accordance with sections 751(h) and 777(i) of the Tariff Act of 1930, as amended.

Dated: September 7, 2017.
Gary Taverman,
Deputy Assistant Secretary for Antidumping and Countervailing Duty Operations, performing the non-exclusive functions and duties of the Assistant Secretary for Enforcement and Compliance.

[FR Doc. 2017-19529 Filed 9-13-17; 8:45 am]

BILLING CODE 3510-DS-P